DEPARTMENT OF AGRICULTURE

Rural Utilities Service

Broadband Pilot (ReConnect) Program

AGENCY: Rural Utilities Service, Department of Agriculture.

ACTION: Notice; amendment to Funding Opportunity Announcement (FOA) for the second round of the ReConnect Program.

SUMMARY: The Rural Utilities Service (RUS) published a Funding Opportunity Announcement (FOA) and solicitation of applications in the Federal Register on Thursday, December 12, 2019, (84 FR 67913) announcing its general policy and application procedures for funding under the broadband pilot program (ReConnect) established pursuant to the Consolidated Appropriations Act, 2018 (which became law on February 15, 2019) which provides loans, grants, and loan/grant combinations to facilitate broadband deployment in rural areas. The purpose of this notice is to inform the public of an extension of the application window until midnight, based on the time zone the applicant is located in, on April 15, 2020.

DATES: Actions described in this notice take effect March 30, 2020.

FOR FURTHER INFORMATION CONTACT: For general inquiries regarding the ReConnect Program, contact Laurel Leverrier, Acting Assistant Administrator Telecommunications Program, Rural Utilities Service, U.S. Department of Agriculture (USDA), email: laurel.leverrier@wdc.usda.gov, telephone (202) 720-9554. For inquiries regarding eligible service areas, please contact ReConnect Program Staff at https://www.usda.gov/reconnect/contact-us.

SUPPLEMENTARY INFORMATION:

Background

On December 12, 2019, RUS published a Funding Opportunity Announcement (FOA) and solicitation of applications in the Federal Register at 84 FR 67913. The FOA provided the policy and application procedures for the ReConnect Program. In support of the ReConnect Program, the agency identified the application closing date and funding amount for each category.

The action taken in this notice will extend the application window until midnight, based on the time zone the applicant is located in, on April 15, 2020. This is an extension from the March 12, 2020 Federal Notice (75 FR 14458) that set the application window at midnight, based on the time zone the applicant is located in, on March 31 30, 2020. This action is being taken by the Agency to ensure a successful round of funding under the ReConnect Program.

Chad Rupe,
Administrator, Rural Utilities Service.

[FR Doc. 2020-06561 Filed 3-27-20; 8:45 am]

BILLING CODE 3410-15-P